DEPARTMENT OF ENERGY

Federal Energy Regulatory Commission

[Docket No. CP02-381-000]

Texas Eastern Transmission, LP; Notice of Intent To Prepare an Environmental Assessment for the Proposed M-1 Expansion Project and Request for Comments on Environmental Issues

June 25, 2002.

The staff of the Federal Energy Regulatory Commission (FERC or Commission) will prepare an environmental assessment (EA) that will discuss the environmental impacts of the M-1 Expansion Project involving construction and operation of facilities by Texas Eastern Transmission, LP (Texas Eastern) in Monroe, Hinds, Copiah, Amite, Franklin, and Madison Counties, Mississippi, Colbert County, Alabama, and Giles and Wilson Counties, Tennessee.¹ These facilities would consist of about 33 miles of 36-inch diameter pipeline and 28,000 horsepower (hp) of additional compression. The EA will be used by the Commission in its decision-making process to determine whether the project is in the public convenience and necessity.

¹ Texas Eastern's application was filed with the Commission under Section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Texas Eastern provided to landowners. This fact sheet addresses a number of typically asked questions, including the use of eminent domain and how to participate in the Commission's proceedings. It is available for viewing on the FERC Internet website (http://www.ferc.gov).

Summary of the Proposed Project

Texas Eastern wants to expand the capacity of its facilities in Mississippi, Alabama, and Tennessee to transport an additional 197,147 dekatherm units per day of natural gas to two distribution companies and one electric generation plant. Texas Eastern seeks authority to construct and operate facilities in three Phases, as described below:

Phase I Facilities (November 1,2003)

1. Construct part of the Union Church Discharge Loop, about 8.0 miles of 36-inch diameter pipeline and appurtenant facilities in Hinds and Copiah Counties, Mississippi.

2. Modify the Egypt Compressor Station in Monroe County, Mississippi by installing a mechanical variable-speed drive (VSD) in place of the existing conventional gearbox on each of the two existing 15,000 hp electric motor-driven compressor units. The uprate would result in a 20,000 hp rating for each compressor unit.

3. Modify the Barton Compressor Station in Colbert County, Alabama by installing a mechanical VSD in place of the existing conventional gearbox on the existing 15,000 hp electric motor driven compressor unit. The uprate would result in a 20,000 hp rating for the compressor unit.

4. Modify the Gladeville Compressor Station in Wilson County, Tennessee by uprating the existing 15,000 hp motor to 20,000 hp. Various appurtant facilities would be replaced for more efficient and quieter options.

5. Provide service to City of Cartersville and winter service to Carolina Power & Light Company.

Phase II Facilities (April 1, 2004)

6. Construct remaining Union Church Discharge Loop, about 6.7 miles of 36-inch diameter pipeline and appurtenant facilities in Copiah County, Mississippi.

7. Construct the St. Francisville Discharge Loop, which consists of 4.5 miles of 36-inch diameter pipeline and appurtenant facilities in Amite and Franklin Counties, Mississippi.

8. Uprate six existing 2,500 hp electric motor driven compressor units to 3,000 hp at the Barton Compressor Station. Various appurtenant facilities would be replaced for more efficient and quieter options.

9. Modify the Mount Pleasant Compressor Station in Giles County, Tennessee by installing a mechanical VSD in place of the existing conventional gearbox on the existing 15,000 hp electric motor driven compressor unit. The uprate would result in a 20,000 hp rating for the compressor unit.

10. Provide summer service to Carolina Power & Light Company.

Phase III Facilities (November 1, 2004)

11. Construct the Clinton Discharge Loop, which consists of 12.8 miles of 36-inch-wide diameter pipeline and appurtenant facilities in Madison County, Mississippi.

12. Provide service to Choctaw Gas Generation, LLC

Choctaw Gas Generation, LLC (Choctaw) has been identified as a nonjurisdictional facility associated with the M-1 Expansion Project. The Choctaw facility would be comprised of one steam-driven, and two gas-fired electric generating turbines.

The general location of the project facilities is shown in Appendix 1.² If you are interested in obtaining detailed maps of a specific portion of the project, send in your request using the form in Appendix 3.

² The appendices referenced in this notice are not being printed in the Federal Register. Copies are available on the Commission's website at the “RIMS” link or from the Commission's Public Reference and Files Maintenance Branch, 888 First Street, NE., Washington, DC 20426, or call (202) 208-1371. For instructions on connecting to RIMS refer to the last page of this notice. Copies of the appendices were sent to all those receiving this notice in the mail.

Land Requirements for Construction

Construction of the proposed facilities would require about 536.4 acres of land. Following construction, about 93.5 acres would be required as new permanent right-of-way in Mississippi. No new permanent right-of-way would be required in Alabama or Tennessee. The remaining 442.9 acres of land would be restored and allowed to revert to its former use.

The EA Process

The National Environmental Policy Act (NEPA) requires the Commission to take into account the environmental impacts that could result from an action whenever it considers the issuance of a Certificate of Public Convenience and Necessity. NEPA also requires us ³ to discover and address concerns the public may have about proposals. This process is referred to as “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

a. Geology and soils

b. Water resources, fisheries, and wetlands

c. Vegetation and wildlife

d. Endangered and threatened species

e. Cultural resources

f. Land use

g. Air quality and noise

h. Public safety

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Texas Eastern. This preliminary list of issues may be changed based on your comments and our analysis.

a. 11 federally listed endangered or threatened species may occur in the proposed project area.

b. 14 perennial streams would be crossed, one of which is considered impaired by EPA classification standards.

c. About 4 miles of the 4.5 mile St. Francisville Discharge Loop would traverse through the Homochitto National Forest.

d. Eight residences are within 50-feet of the proposed construction right-of-way.

Public Participation

You can make a difference by providing us with your specific comments or concerns about the project. By becoming a commentor, your concerns will be addressed in the EA and considered by the Commission. You should focus on the potential environmental effects of the proposal, alternatives to the proposal (including alternative routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas/Hydro Branch.

• Reference Docket No. CP02-381-000.

• Mail your comments so that they will be received in Washington, DC on or before July 26, 2002.

Please note that we are continuing to experience delays in mail deliveries from the U.S. Postal Service. As a result, we will include all comments that we receive within a reasonable time frame in our environmental analysis of this project. However, the Commission encourages electronic filing of any comments or interventions or protests to this proceeding. See 18 CFR 385.2001(a)(1)(iii) and the instructions on the Commission's web site at http://www.ferc.gov under the “e-Filing” link and the link to the User's Guide. Before you can file comments you will need to create a free account which can be created by clicking on “Login to File” and then “New User Account.”

We might mail the EA for comment. If you are interested in receiving it, please return the Information Request in Appendix 4. If you do not return the Information Request, you will be taken off the mailing list.

On July 8-9, 2002, the staff of the Office of Energy Projects (OEP) will conduct a pre-certification site visit of Texas Eastern's M-1 Expansion Project in Amite, Franklin, Hinds, Copiah, and Madison Counties, Mississippi. The project area will be inspected by automobile and on foot, as appropriate. Representatives of Texas Eastern will accompany the OEP staff. All interested parties may attend. Those planning to attend must provide their own transportation. Contact the Commission's Office of External Affairs at 1-866-208-FERC if you are interested in attending the visit.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see Appendix 2).⁴ Only intervenors have the right to seek rehearing of the Commission's decision.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors. By this notice we are also asking governmental agencies, especially those in Appendix 3, to express their interest in becoming cooperating agencies for the preparation of the EA.

Additional Information

Additional information about the proposed project is available from the Commission's Office of External Affairs at (202) 208-1088 (direct line) or you can call the FERC operator at 1-800-847-8885 and ask for External Affairs. Information is also available on the FERC website (http://www.ferc.gov) using the “RIMS” link to information in this docket number. Click on the “RIMS” link, select “Docket #” from the RIMS Menu, and follow the instructions. For assistance with access to RIMS, the RIMS helpline can be reached at (202) 208-2222.⁴

⁴ Interventions may also be filed electronically via the Internet in lieu of paper. See the previous discussion on filing comments electronically.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2222.

Linwood A. Watson, Jr.,
Deputy Secretary.

[FR Doc. 02-16483 Filed 6-28-02; 8:45 am]

BILLING CODE 6717-01-P